NUCLEAR REGULATORY COMMISSION

[Docket No. 72-16; NRC-2015-0237]

Virginia Electric and Power Company; North Anna Power Station Independent Spent Fuel Storage Installation

AGENCY: Nuclear Regulatory Commission.

ACTION: License amendment application; issuance.

SUMMARY: The U.S. Nuclear Regulatory Commission (NRC) reviewed an application by Virginia Electric and Power Company (Dominion) for an amendment to License No. SNM-2507 in the form of changes to the Technical Specifications (TS). Under this license, Dominion is authorized to receive, possess, store, and transfer spent nuclear fuel and associated radioactive materials at the North Anna Power Station (NAPS) Independent Spent Fuel Storage Installation (ISFSI). Dominion requested approval of the TS changes to allow storage of spent fuel in a modified TN-32B bolted lid cask as part of the High Burn-up Dry Storage Cask Research and Development Project sponsored by the U.S. Department of Energy and the Electric Power Research Institute. Data gathered from the cask will be used to confirm the effects of long-term dry storage on high burn-up assemblies.

DATES: September 21, 2017.

ADDRESSES: Please refer to Docket ID NRC-2015-0237 when contacting the NRC about the availability of information regarding this document. You may obtain publicly-available information related to this document using any of the following methods:

• Federal Rulemaking Web site: Go to http://www.regulations.gov and search for Docket ID NRC-2015-0237. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. In addition, for the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Chris Allen, Office of Nuclear Material Safety and Safeguards, U.S. Nuclear Regulatory Commission, Washington, DC 20555-0001; telephone: 301-415-6877; email: William.Allen@nrc.gov.

SUPPLEMENTARY INFORMATION:

I. Discussion

By letter dated August 24, 2015, as supplemented October 8, November 18, November 19, December 1, and December 28, 2015; January 14, March 22, March 23, April 21, June 21, July 26, September 23, November 22, 2016, and April 10, 2017, Dominion submitted to the NRC, in accordance with part 72 of title 10 of the Code of Federal Register (10 CFR), a request to amend License No. SNM-2507 for its NAPS ISFSI located in Louisa County, Virginia. This ISFSI contains spent fuel that was generated at the NAPS Unit 1 and 2 reactors. License No. SNM-2507 authorizes Dominion to receive, possess, store, and transfer spent nuclear fuel and associated radioactive materials at the NAPS ISFSI. Specifically, Dominion requested approval to revise the NAPS ISFSI TS to allow storage of spent fuel in a modified TN-32B bolted lid cask as part of the High Burn-up Dry Storage Cask Research and Development Project sponsored by the Department of Energy and the Electric Power Research Institute.

The NRC issued a letter dated September 25, 2015, notifying Dominion that the application was acceptable for review. In accordance with 10 CFR 72.46(a), a notice of proposed action and opportunity for hearing was published in the Federal Register on October 13, 2015 (80 FR 61500). No requests for a hearing or for leave to intervene were submitted. Accordingly, pursuant to 10 CFR 72.46(d), the NRC is publishing this notice that the action proposed by Dominion in its license amendment request has been taken.

The NRC prepared a safety evaluation report that documents its review and evaluation of the amendment request. Also in connection with this action, the NRC prepared an Environmental Assessment containing a Finding of No Significant Impact. The Notice of Availability of the Environmental Assessment and Finding of No Significant Impact for the NAPS ISFSI was published in the Federal Register on June 30, 2016 (81 FR 42743).

Upon completing its review, the staff determined that the amendment request complies with the standards and requirements of the Atomic Energy Act of 1954, as amended (the Act), as well as the NRC's applicable regulations. As required by the Act and such regulations, the staff made the appropriate findings which are contained in the safety evaluation report and the Environmental Assessment. Based on these findings, the NRC approved Dominion's amendment request and accordingly issued Amendment No. 5 to License No. SNM-2507. Amendment No. 5 was effective as of its date of issuance.

II. Availability of Documents

The following table includes the ADAMS accession numbers for the documents referenced in this notice. For additional information on accessing ADAMS, see the ADDRESSES section of this document.

Document | ADAMS accession No.
Dominion application, dated August 24, 2015 | ML15239B260
Acceptance Letter Issued, dated September 25, 2015 | ML15271A044
Supplemental Information Submittal, dated October 8, 2015 | ML15289A189
Supplemental Information Submittal, dated November 18, 2015 | ML15328A483
Supplemental Information Submittal, dated November 19, 2015 | ML16022A073
Re-Submittal of Clean and Marked-Up Technical Specifications, dated December 1, 2015 | ML15342A065
Supplemental Structural Information Submittal, dated December 28, 2015 | ML16004A108
Supplemental Information Submittal, dated January 14, 2016 | ML16019A335
Request for Additional Information Responses, dated March 22, 2016 | ML16089A091
Responses to Environmental Review Questions for North Anna HBU Amendment, dated March 23, 2016 | ML16083A527
Supplemental Information for Request for Additional Information Responses, dated April 21, 2016 | ML16118A205
Supplemental Information for Request for Additional Information Responses, dated June 21, 2016 | ML16176A239
Final Environmental Assessment, dated June 24, 2016 | ML16168A104
Supplemental Information Submittal, dated July 26, 2016 | ML16211A077
Second Request for Additional Information Responses, dated September 23, 2016 | ML16272A388
Supplemental Information for Second Request for Additional Information Responses, dated November 22, 2016 | ML16330A654
Supplemental Information for Second Request for Additional Information Responses, dated April 10, 2017 | ML17109A469
Revised Technical Specifications and Transmittal E-Mail | ML17165A454
Amended License, dated September 13, 2017 | ML17234A534

Dated at Rockville, Maryland, this 13 day of September, 2017.
For the Nuclear Regulatory Commission.
John McKirgan,
Chief, Spent Fuel Licensing Branch, Division of Spent Fuel Management, Office of Nuclear Material Safety and Safeguards.

[FR Doc. 2017-20156 Filed 9-20-17; 8:45 am]

BILLING CODE 7590-01-P